DEPARTMENT OF HOUSING AND URBAN DEVELOPMENT

[Docket No. FR-4834-C-02]

Notice of Funding Availability (NOFA) for the Community Development Block Grant Program for Indian Tribes and Alaska Native Villages, Fiscal Year 2003; Correction

AGENCY: Office of the Assistant Secretary for Public and Indian Housing, HUD.

ACTION: Notice of Funding Availability for the Community Development Block Grant Program for Indian Tribes and Alaska Native Villages, Fiscal Year 2003; Correction.

SUMMARY: On July 16, 2003, HUD published the Notice of Funding Availability (NOFA) for the Community Development Block Grant Program for Indian Tribes and Alaska Native Villages Fiscal Year 2003. This document makes several technical corrections to the NOFA.

FOR FURTHER INFORMATION CONTACT: Jacqueline Kruszek, Office of Public and Indian Housing, Denver Regional Office, Department of Housing and Urban Development, 633 17th Street, Denver, CO, 80202-3607, telephone (303) 675-1600 (this is not a toll-free number). Persons with hearing and/or speech challenges may access the above telephone number via TTY (text telephone) by calling the toll-free Federal Information Relay Service at 1-800-877-8339.

SUPPLEMENTARY INFORMATION: On July 16, 2003, HUD published the Notice of Funding Availability (NOFA) for the Community Development Block Grant Program for Indian Tribes and Alaska Native Villages, Fiscal Year 2003 (68 FR 42190). Subsequent to publication, it was discovered that additional funds were available but not stated in the NOFA. This document makes clear the amount of funds available. In addition, it was determined that paragraph numbers were inadvertently omitted from both Section VI. “Threshold Requirements” and under Rating Factor 3 under the element labeled, “Public Facilities and Improvement Projects.” The labels are corrected in this document. Further, it was determined, and is corrected in this document, that under Rating Factor 1, zero points will be awarded if an applicant has not submitted either of the reports required by Rating Factor 1 in a timely manner. Also, it was ascertained that incorrect dollar values were listed under Rating Factor 2 in the NOFA, “Need/Extent of the Problem,” and the dollar values are corrected in this document.

Additionally, it was determined that language in Rating Factor 2, in the section entitled, “Public Facilities and Improvements and Economic Development Projects,” needed explanation. Therefore, a clarification is made by this document. In addition, a correction is made in this document to make clear that the title of form HUD-424 is “Application for Federal Assistance.” This document also clarifies that the Logic Model form may be used to address program evaluation requirements under Rating Factor 1(1)(b) of this NOFA. Finally, it was determined that the text under Rating Factor 3 “Soundness of Approach”, subsection entitled, “Public Facilities and Improvement Projects” was confusing. The text of that subsection is clarified in this document.

Accordingly, the Notice of Funding Availability (NOFA) for the Community Development Block Grant Program for Indian Tribes and Alaska Villages, Fiscal Year 2003, published in the Federal Register on July 16, 2003, (68 FR 41290) is corrected as follows:

1. On page 42190, in the first column, the paragraph entitled, “Available Funds” is corrected to read as follows: “The FY 2003 appropriation for the ICDBG Program is $70,538,500. In addition, FY 2002 ICDBG carry-over of $7,899,850 is available for distribution, for a total of $78,438,350.”

2. On page 42195, in the middle column under Section II. entitled, “Amount Allocated,” paragraph (A) “Available Funds” is corrected to read as follows: “The FY 2003 appropriation for the ICDBG Program is $70,538,500. In addition, FY 2002 ICDBG carry-over of $7,899,850 is available for distribution, for a total of $78,438,350.”

3. On page 42195, in the middle column, under Section II. entitled, “Amount Allocated,” paragraph (C) “Allocations to Area ONAPs” is corrected to read as follows: “The requirements for allocating funds to Area ONAPs responsible for program administration are found at 24 CFR 1003.101. Following these requirements, based on an appropriation of $70,538,500 and FY 2002 ICDBG carry-over of $7,899,850, less $4,000,000 retained to fund Imminent Threat Grants, the allocations for FY 2003 are as follows:

Eastern/Woodland | $ 8,028,368
Southern Plains | 14,911,565
Northern Plains | 11,210,433
Southwest | 29,066,801
Northwest | 4,004,517
Alaska | 7,216,666
Total | $74,438,350

4. On page 42201, in the middle column, the subsection heading, “Project Specific Threshold Requirements” is corrected to read as follows, “(B) Project Specific Threshold Requirements.”

5. On page 42204, paragraph (b), beginning in the middle column and continuing to the third column, is corrected by adding the following sentence prior to paragraph (c): “(0 points) The applicant has not submitted either of the required reports in a timely manner.”

6. On page 42205, in the first column, paragraph (a) “Public Facilities and Improvements and Economic Development Projects” is corrected to read as follows: “The proposed activities benefit the neediest segment of the population, as identified below. For economic development projects, you may consider beneficiaries of the project as persons served by the project and/or persons employed by the project, and jobs created or retained by the project.”

7. On page 42205, in the middle column, the sixth paragraph is corrected to read as follows: “This ratio is computed for each tribe and contained in Appendix B of this NOFA.

(15 points) $400-$699 or the tribe's total FY 2003 IHBG amount was $100,000 or less and Appendix B of this NOFA does not indicate that the Indian tribe has no AIAN households experiencing income or housing problems.

(10 points) $700-1,199

(5 points) $1,200-$1,999

(0 points) The dollar amount for the Indian tribe is $2,000 or higher, or Appendix B of this NOFA indicates that the Indian tribe has no AIAN households experiencing income or housing problems.”

8. On page 42206, in the first column, the subsection heading, “Public Facilities and Improvement Projects” is corrected to read as follows: “(a) Public Facilities and Improvement Projects.

(15 points) If a tribe assumes operation and maintenance responsibilities for the public facilities and improvements, a tribal resolution is included in the application that adopts the operation and maintenance plan and commits the necessary funds to provide for these responsibilities. In addition, the operation and maintenance plan is included in the application and addresses maintenance, repairs, insurance, and replacement reserves and includes a cost breakdown for annual expenses. If an entity other than the tribe commits to pay for operation and maintenance for the public facilities and improvements, a letter of commitment from the entity is included in the application that identifies the maintenance responsibilities and, if applicable, responsibilities for operations the entity will assume as well as the necessary funds to provide for these responsibilities. Submission of the operation and maintenance plan is not required when an entity other than the tribe assumes operation and maintenance responsibilities. For community buildings only, a tribal resolution or letter of commitment is included in the application that identifies the source of and commits the necessary operating funds for any recreation, social or other services to be provided. In addition, letters of commitment from service providers are included which address both operating expenses and space needs.

(10 points) If a tribe assumes operation and maintenance responsibilities for public facilities and improvements, a tribal resolution is included in the application that adopts the operation and maintenance plan and commits the necessary funds to provide for these responsibilities. In addition, the operation and maintenance plan is included in the application and addresses most of the above items (maintenance, repairs, insurance, replacement reserves) but does not include a satisfactory cost breakdown for annual expenses. If an entity other than the tribe commits to pay for operation and maintenance for the public facilities and improvements, a letter of commitment identifying maintenance responsibilities and, if applicable, responsibilities for operations the entity will assume, but no information committing the necessary funds in included. Submission of the operation and maintenance plan is not required when an entity other than the tribe assumes operation and maintenance responsibilities. For community buildings only, a tribal resolution or letter of commitment is included in the application that identifies the source of and commits the necessary operating funds for any recreation, social or other services to be provided. In addition, letters of commitment from service providers are included which address both operating expenses and space needs. Information provided is sufficient to determine that the project will proceed effectively.

(5 points) If a tribe assumes operation and maintenance responsibilities for public facilities and improvements, a tribal resolution is included in the application that adopts the operation and maintenance plan and commits the necessary funds to provide for these responsibilities or the operation and maintenance plan is included in the application and addresses most of the above items (maintenance, repairs, insurance, replacement reserves). If an entity other than the tribe commits to pay for operation and maintenance for the public facilities and improvements, the maintenance provider is identified and, if applicable, responsibilities for operations the entity will assume are included in the application, but no letter of commitment is provided. For community buildings only, no tribal resolution or letter of commitment is included in the application that identifies the source of and commits the necessary funds for any recreation, social or other services to be provided. However, letters of commitment to provide services are included but they do not address operating expenses and space needs. Information provided is sufficient to determine that the project will proceed effectively.

(0 points) None of the above criteria is met.”

9. On page 42207, in the third column under the subsection entitled, “Rating Factor 5 Comprehensiveness and Coordination (5 points)” that continues to the first column on page 42208, the last sentence of the paragraph is corrected to read as follows: “However, applicants may use this form to address program evaluation requirements under Rating Factor 1(1)(b) of this NOFA.”

10. In the middle column on page 42208, under paragraph (C), entitled, “Application Submission,” number one on the list of forms is corrected to read as follows: “1. Application for Federal Assistance (HUD-424).”

Dated: August 15, 2003.
Michael M. Liu,
Assistant Secretary for Public and Indian Housing

[FR Doc. 03-21420 Filed 8-18-03; 12:19 pm]

BILLING CODE 4210-33-P